DEPARTMENT OF DEFENSE

Defense Finance and Accounting Service; Privacy Act of 1974; Systems of Records

AGENCY: Defense Finance and Accounting Service.

ACTION: Notice to alter a system of records.

SUMMARY: The Defense Finance and Accounting Service is proposing to alter a system of records notice in its existing inventory of records systems subject to the Privacy Act of 1974, (5 U.S.C. 552a), as amended.

DATES: This proposed action will be effective without further notice on April 20, 2006 unless comments are received which result in a contrary determination.

ADDRESSES: Freedom of Information Act/Privacy Act Program Manager, Defense Finance and Accounting Service, Denver, 6760 E. Irvington Place, Denver, CO 80279-8000.

FOR FURTHER INFORMATION CONTACT: Ms. Linda Krabbenhoft at (303) 676-6045.

SUPPLEMENTARY INFORMATION: The Defense Finance and Accounting Service systems of records notices subject to the Privacy Act of 1974, (5 U.S.C. 552a), as amended, have been published in the Federal Register and are available from the address above.

The proposed system report, as required by 5 U.S.C. 552a(r) of the Privacy Act of 1974, as amended, was submitted on March 9, 2006, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: March 15, 2006.
L.M. Bynum,
OSD Federal Register Liaison Officer, Department of Defense.

T7346

System name:

Defense Joint Military Pay System—Reserve Component (April 12, 1999, 64 FR 17629).

Changes:

* * * * *

System location:

Delete entry and replace with: “Director, Area Command Mechanicsburg, 5450 Carlisle Pike, Building 309, Mechanicsburg, PA 17055-0975.

Defense Finance and Accounting Service, Cleveland, Reserve Center of Excellence, 1240 East Ninth Street, Cleveland, OH 44199-2055.”

Categories of individuals covered by the system:

Delete the third sentence in the first paragraph.

Delete second paragraph and replace with: “Reserve military on extended active duty are covered under the Defense Joint Military Pay System—Active Component, system number T7340.”

Categories of records in the system:

Delete third paragraph and replace with: “DEDUCTIONS FROM PAY: Federal and state income tax withholding rate and amount (including authorization control files), withholding for Federal Insurance Contributions Act (FICA), Serviceman's Group Life Insurance (SGLI) deductions, Thrift Savings Plan (TSP), voluntary deductions, allotments (including allottee name and address, amount, term ( in months), and account or policy number), bond authorizations (including bond owner and co-owner/beneficiary names and Social Security numbers, and recipient's address), health care coverage deductions, and indebtedness and collections.”

* * * * *

Purpose(s):

In the first sentence delete the following words: “Voluntary Separation Incentive (VSI)”

Routine uses of records maintained in the system, including categories of users and the purposes of such uses:

Delete fifth paragraph and replace with: “To the Department of Veterans Affairs to report compensation, waivers, and audits, life insurance accounting; disbursement and benefit determinations, death notices, and payroll information for members who participated in making contributions to the Veterans Educational Assistance program (VEAP), the Montgomery GI Bill program, and Reserve Educational Assistance Program (REAP).”

Add the following words to the seventh paragraph: “or reimbursements form the state due to the member.”

Add the following new paragraphs:

“To the Department of Justice in connection with litigation, law enforcement or other matters under the legal representative of the Executive Branch agencies.”

“To Federal, state and local governmental agencies in response to an official request for information with respect to law enforcement, investigatory procedures, criminal prosecution, civil court action and regulatory order.”

“To Federal, state and local revenue departments to credit members for taxes withheld.”

“To the National Finance Center, Office of Thrift Savings Plan for participating service members.”

“To states to provide information in order to reimburse reservists for their payment of Servicemember's Group Life Insurance (SGLI) premiums.”

* * * * *

Retrievability:

Delete entry and replace with: “Computerized, conventional indices, other identification numbers or system identifiers are required to retrieve individual records from the system. Normally, information is retrieved by individual's name and Social Security Number.”

Safeguards:

Delete entry and replace with: “Records are stored in office buildings protected by guards, controlled screening, use of visitor registers, electronic access, and/or locks. Access to records is limited to individuals who are properly screened and cleared on a need-to-know basis in the performance of their official duties. Passwords and digital signatures are used to control access to the systems data, and procedures are in place to deter and detect browsing and unauthorized access. Physical and electronic access are limited to persons responsible for servicing and authorized to use the record system.”

Retention and disposal:

Delete entry and replace with: “Records may be temporary in nature and destroyed when actions are completed, superseded, obsolete, or no longer needed. Other records may be cut off at the end of the payroll year or fiscal year, and destroyed 6 years and 3 months after cutoff. Reserve pay records created prior to automation were cut off on conversion to the Joint Uniformed Military Payroll System (JUMPS), and will be destroyed 56 years after the year in which created. Records created after conversion to Defense Joint Military Pay System—Reserve Component (DJMS-RC) are cut off at end of payroll year and destroyed 56 years after year in which created. The records are destroyed by tearing, shredding, pulping, macerating, burnings or degaussing the electronic storage media.”

System manager(s) and address:

Delete entry and replace with: “For Navy, Air Force, and Army reserve military members, the system manager is the Director, Military Pay Operations, Military and Civilian Pay Services, Defense Finance and Accounting Service, Indianapolis, 8899 East 56th Street, Indianapolis, IN 46249.”

“For Marine Corps reserve military members see the Marine Corps' Privacy Act system notice MFD00003, Marine Corps Total Forces System (MCTFS) on the procedures for obtaining your personnel and payroll records.”

* * * * *

T7346

System name:

Defense Joint Military Pay System—Reserve Component.

System location:

Director, Area Command Mechanicsburg, 5450 Carlisle Pike, Building 309, Mechanicsburg, PA 17055-0975.

Defense Finance and Accounting Service, Cleveland, Reserve Center of Excellence, 1240 East Ninth Street, Cleveland, OH 44199-2055.

Categories of individuals covered by the system:

Active Air Reserve and Air National Guard Forces in a military pay status. U.S. Army Reserve and National Guard members in a military pay status. Active Naval reservists in pay and non-pay drill units. Naval Reserve Officer Training Corps students.

Reserve military on extended active duty are covered under the Defense Joint Military Pay System—Active Component, system number T7340.

Categories of records in the system:

Types of Records: Master individual military pay accounts; wage and tax summaries; leave and earnings statements; and other generated records substantiating or authorizing Reserve Forces military pay and allowance entitlement, deduction, or collection actions.

Pay Entitlements and Allowances: Base pay; allowances (such as basic allowance for subsistence, basic allowance for quarters, family separations, clothing maintenance and monetary allowances); special compensation for positions such as medical, dental, veterinary, and optometry; special pay and bonus, such as foreign duty, proficiency, hostile fire, and diving duty; incentive pay such as flying duty, parachute duty, and submarine duty; and other entitlements in accordance with the DoD Financial Management Regulations, Volume 7A.

Deductions From Pay: Federal and state income tax withholding rate and amount (including authorization control files), withholding for Federal Insurance Contributions Act (FICA), Serviceman's Group Life Insurance (SGLI) deductions, Thrift Savings Plan (TSP), voluntary deductions, allotments (including allottee name and address, amount, term (in months), and account or policy number), bond authorizations (including bond owner and co-owner/beneficiary names and Social Security numbers, and recipient's address), health care coverage deductions, and indebtedness and collections.

Other Pay Information: Name, pay grade, Social Security Number, Reserve Forces calendar day performances (drill record), check issue, pay dates, leave account, payment address, and Form W-2 address.

Duty Status: Status adjustments relating to leave, entrance on active duty, absent without leave, confinement, desertion, sick or injured, mentally incompetent, missing, interned, promotions and demotions, and separation document code.

Personnel Information: Rank; enlistment contract or officer acceptance form identification; duty information (duty station, personnel assignment, and unit); security investigation; test scores; language proficiency; military and civilian off-duty education; training; awards; combat tours; aviation, pilot, and flying time data; lineal precedence number; limited duty officer/warrant officer footnote; temporary active duty data; power of attorney; years in service; promotional data.

Personal Information: Date of birth, citizenship, marital status, home of record, dependent information, record of emergency data, population group, sex, ethnic group, and health care coverage.

Supporting Documentation: Includes, but is not limited to, travel orders and requests; payroll attendance lists and rosters; document records establishing, supporting, reducing, or canceling entitlements; certificates and statements changing address, name, military assignment, and other individual data necessary to identify and provide accurate and timely Air Reserve Forces military pay and performance credit; allotment start, stop, or change records; declarations of benefits and waivers; military pay and personnel orders; medical certifications and determinations; death and disability documents; check issuing and cancellation records and schedules; payroll vouchers; money lists and accounting records; pay adjustment authorization records; system input certifications; member indebtedness and tax levy documentation; earnings statements; employees' wage and tax reports and statements; casual payment authorization and control logs; and other documentation authorizing or substantiating Reserve Forces military pay and allowances, entitlements, deductions, or collections. Also inquiry files, sundry lists, reports, letters, correspondence, and rosters including, but not limited to, Congressional inquiries, Internal Revenue Service notices and reports, state tax and insurance reports, Social Security Administration reports, Department of Veterans Affairs reports, Treasury Department reports, inter-DoD requests, and health education and institution inquiries.

Authority for maintenance of the system:

5 U.S.C. 301, Departmental Regulations; 10 U.S.C., Chapter 11; 37 U.S.C.; and E.O. 9397 (SSN).

Purpose(s):

To ensure accurate and timely pay and allowances to Active Reserve component military members (including those who participate in Armed Forces Health Professional Scholarship Program, Basic Military Training, and Naval Reserve Officers Training Corps programs) or payment to a financial organization through electronic fund transfer program (including allotments and issuance and cancellation of United States treasury checks and bonds); to document and account for reserve military pay and allowance disbursements and collections; to verify and account for system input transactions; to identify, correct, and collect overpayments; to establish, control, and maintain member indebtedness notices and levies; to provide timely, complete master individual pay account review; to provide internal and external managers with statistical and monetary reports and to maintain a record of related personnel data.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Treasury Department to provide information on check issues and electronic funds transfers.

To the Internal Revenue Service to report taxable earnings and taxes withheld, accounting, and tax audits; to compute or resolve tax liability or tax levies.

To the Social Security Administration to report earned wages by members for FICA; accounting or tax audits; and death notices.

To the Department of Veterans Affairs to report compensation, waivers, and audits, life insurance accounting; disbursement and benefit determinations, death notices, and payroll information for members who participated in making contributions to the Veterans Educational Assistance Program (VEAP), the Montgomery GI Bill program, and Reserve Educational Assistance Program (REAP).

To National Guard Bureaus to furnish budget data to account for expenditures within established categories.

To individual National Guard state associations to furnish reports and associated checks regarding state sponsored life insurance premiums withheld or reimbursements from the state due to the member.

To the American Red Cross and military relief societies to assist military personnel and their dependents in determining the status of monthly pay, dependents' allotments, loans, and related financial transactions, and to perform other relief-related duties as requested by the service member.

To Federal Reserve banks to distribute payments made through the direct deposit system to financial organizations or their processing agents authorized by individuals to receive and deposit payments in their accounts.

To Federal, state, and local agencies to conduct computer matching programs regulated by the Privacy Act of 1974 for those programs authorized by law.

To the Department of Justice in connection with litigation, law enforcement or other matters under the legal representatives of the Executive Branch agencies.

To Federal, state and local government agencies in response to an official request for information with respect to law enforcement, investigatory procedures, criminal prosecution, civil court action and regulatory order.

To Federal, state and local revenue departments to credit members for taxes withheld.

To the National Finance Center, office of Thrift Savings Plan for participating service members.

To states to provide information in order to reimburse reservists for their payment of Servicemember's Group Life Insurance (SGLI) premiums.

The ‘Blanket Routine Uses’ published at the beginning of the DFAS compilation of systems of records notices apply to this system.

Disclosure to consumer reporting agencies:

Disclosures pursuant to 5 U.S.C. 552a(b)(12) may be made from this system to ‘consumer reporting agencies’ as defined in the Fair Credit Reporting Act, 15 U.S.C. 1681a(f) or the Federal Claims Collection Act of 1966, 31 U.S.C. 3701(a)(3). The purpose of this disclosure is to aid in the collection of outstanding debts owed to the Federal government; typically to provide an incentive for debtors to repay delinquent Federal government debts by making these debts part of their credit records.

The disclosure is limited to information necessary to establish the identity of the individual, including name, address, and taxpayer identification number (Social Security Number); the amount, status, and history of the claim; and the agency or program under which the claim arose for the sole purpose of allowing the consumer reporting agency to prepare a commercial credit report.

Policies and practices for storing, retrieving, accessing, retaining, and disposing of records in the system:

Storage:

Data is recorded on magnetic tapes and disks, computer printouts, computer output products (microform and reports) ; file folders, notebooks, binders, card files, and bulk storage, and other documents.

Retrievability:

Computerized, conventional indices, other identification numbers or system identifiers are required to retrieve individual records from the system. Normally, information is retrieved by individual's name and Social Security Number.

Safeguards:

Records are stored in office buildings protected by guards, controlled screening, use of visitor registers, electronic access, and/or locks. Access to records is limited to individuals who are properly screened and cleared on a need-to- know basis in the performance of their official duties. Passwords and digital signatures are used to control access to the systems data, and procedures are in place to deter and detect browsing and unauthorized access. Physical and electronic access are limited to persons responsible for servicing and authorized to use the record system.

Retention and disposal:

Records may be temporary in nature and destroyed when actions are completed, superseded, obsolete, or no longer needed. Other records may be cut off at the end of the payroll year or fiscal year, and destroyed 6 years and 3 months after cutoff. Reserve pay records created prior to automation were cut off on conversion to the Joint Uniformed Military Payroll System (JUMPS), and will be destroyed 56 years after the year in which created. Records created after conversion to Defense Joint Military Pay System—Reserve Component (DJMS-RC) are cut off at end of payroll year and destroyed 56 years after year in which created. The records are destroyed by tearing, shredding, pulping, macerating, burnings or degaussing the electronic storage media.

System manager(s) and address:

For Navy, Air Force, and Army reserve military members, the system manager is the Director, Military Pay Operations, Military and Civilian Pay Services, Defense Finance and Accounting Service, Indianapolis, 8899 East 56th Street, Indianapolis, IN 46249.

For Marine Corps reserve military members see the Marine Corps' Privacy Act system notice MFD00003, Marine Corps Total Forces System (MCTFS) on the procedures for obtaining your personnel and payroll records.

Notification procedure:

Individuals seeking to determine whether information about themselves is contained in this system of records should address written inquiries to the Privacy Act officer at the appropriate DFAS Center.

Individuals should provide name, Social Security Number, or other information verifiable from the record itself.

Record access procedures:

Individuals seeking access to information about themselves in this system of records should address written inquiries to the Privacy Act Officer at the appropriate DFAS Center.

Individuals should provide name, Social Security Number, or other information verifiable from the record itself.

Contesting record procedures:

The DFAS rules for accessing records, for contesting contents and appealing initial agency determinations are published in DFAS Regulation 5400.11-R; 32 CFR part 324; or may be obtained from the Freedom of Information/Privacy Act Program Manager, Office of Corporate Communications, 6760 E. Irvington Place, , Denver, CO 80279-8000.

Record source categories:

Individual members; DoD staff and field installations; recruiting, disbursing, and administrative offices; allotment and bond authorization forms; Social Security Administration, Treasury Department, Internal Revenue Service, Department of Veterans Affairs, and other federal agencies; financial, medical, and educational institutions; DoD components; the on-line Allotment/Bond Authorization process, and the End-User Computer Equipment (EUCE); and state and local agencies.

Exemptions claimed for the system:

None.

[FR Doc. 06-2682 Filed 3-20-06; 8:45 am]

BILLING CODE 5001-06-M